DEPARTMENT OF COMMERCE

International Trade Administration

[A-823-819]

Seamless Carbon and Alloy Steel Standard, Line, and Pressure Pipe From Ukraine: Final Affirmative Determination of Sales at Less Than Fair Value

AGENCY: Enforcement and Compliance, International Trade Administration, Department of Commerce.

SUMMARY: The Department of Commerce (Commerce) determines that imports of seamless carbon and alloy steel standard, line, and pressure pipe (seamless pipe) from Ukraine are being, or are likely to be, sold in the United States at less than fair value (LTFV) for the period of investigation, July 1, 2019, through June 30, 2020.

DATES: Applicable July 2, 2021.

FOR FURTHER INFORMATION CONTACT: Lilit Astvatsatrian, AD/CVD Operations, Office IV, Enforcement and Compliance, International Trade Administration, U.S. Department of Commerce, 1401 Constitution Avenue NW, Washington, DC 20230; telephone: (202) 482-6412.

SUPPLEMENTARY INFORMATION:

Background

On February 10, 2021, Commerce published in the Federal Register its preliminary affirmative determination in the LTFV investigation of seamless pipe from Ukraine.¹ Commerce invited interested parties to comment on the Preliminary Determination. The mandatory respondent in this investigation is Interpipe, the collapsed entity which includes Interpipe Ukraine LLC (Interpipe Ukraine), PJSC Interpipe Niznedneprovksy Tube Rolling Plant (NTRP), and LLC Interpipe Niko Tube (Niko Tube). For a complete description of the events that followed the Preliminary Determination, see the Issues and Decision Memorandum.² The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn.

¹ See Seamless Carbon and Alloy Steel Standard, Line, and Pressure Pipe from Ukraine: Preliminary Affirmative Determination of Sales at Less Than Fair Value, Postponement of Final Determination, and Extension of Provisional Measures, 86 FR 8889 (February 10, 2021) (Preliminary Determination), and accompanying Preliminary Decision Memorandum.

² See Memorandum, “Issues and Decision Memorandum for the Final Affirmative Determination in the Less Than Fair Value Investigation of Seamless Carbon and Alloy Steel Standard, Line, and Pressure Pipe from Ukraine,” dated concurrently with, and hereby adopted by, this notice (Issues and Decision Memorandum).

Scope of the Investigation

The products covered by this investigation are seamless pipe from Ukraine. For a complete description of the scope of this investigation, see Appendix I.

Scope Comments

We did not receive comments from interested parties on the Preliminary Scope Decision Memorandum.³ As discussed in the Preliminary Scope Decision Memorandum, Commerce codified the scope language as it appeared in the Initiation Notice to clarify certain exclusions. See the scope in Appendix I to this notice.

³ See Memorandum, “Seamless Carbon and Alloy Steel Standard, Line, and Pressure Pipe from the Czech Republic, the Republic of Korea, the Russian Federation, and Ukraine: Preliminary Scope Decision Memorandum,” dated January 13, 2021 (Preliminary Scope Decision Memorandum).

Analysis of Comments Received

All issues raised in the case and rebuttal briefs that were submitted by parties in this investigation are addressed in the Issues and Decision Memorandum. A list of the sections of the Issues and Decision Memorandum are in Appendix II of this notice.

Verification

Commerce was unable to conduct on-site verification of the information relied upon in making its final determination in this investigation. However, we took additional steps in lieu of an on-site verification to verify the information relied upon in making this final determination, in accordance with section 782(i) of the Tariff Act of 1930, as amended (the Act).⁴

⁴ See Commerce's Letter, Questionnaire In Lieu of an On-Site Verification, dated March 10, 2021; and Interpipe's Letter, “Antidumping Duty Investigation on Seamless Carbon and Alloy Steel Standard, Line, and Pressure Pipe from Ukraine: Resubmitting Questionnaire in Lieu of Verification Response,” dated April 8, 2021.

Changes Since the Preliminary Determination

Based on our review and analysis of the comments received from parties and our findings related to our request for information in lieu of verification, we made certain changes to our calculations of the dumping margin for the sole respondent, Interpipe. For a complete discussion of these changes, see the Issues and Decision Memorandum and Final Analysis Memorandum.⁵

⁵ See Memorandum, “Interpipe Final Determination Analysis,” dated June 25, 2021.

All-Others Rate

Section 735(c)(5)(A) of the Act provides that the estimated weighted-average dumping margin for all other producers and exporters not individually investigated shall be equal to the weighted average of the estimated weighted-average dumping margins established for exporters and producers individually investigated excluding rates that are zero, de minimis, or determined entirely under section 776 of the Act. Pursuant to section 735(c)(5)(B) of the Act, if the estimated weighted-average dumping margins established for all exporters and producers individually examined are zero, de minimis or determined based entirely on facts otherwise available, Commerce may use any reasonable method to establish the estimated weighted-average dumping margin for all other producers or exporters.

Because the only individually calculated dumping margin is not zero, de minimis, or based entirely on facts otherwise available, we assigned the estimated weighted-average dumping margin calculated for Interpipe to all other producers and exporters of subject merchandise, pursuant to section 735(c)(5)(A) of the Act.

Final Determination

The final estimated weighted-average dumping margins are as follows:

Exporter/producer | Estimated dumping margin (percent)
Interpipe Ukraine LLC/PJSC Interpipe Niznedneprovksy Tube Rolling Plant/LLC Interpipe Niko Tube | 23.75
All Others | 23.75

Disclosure

In accordance with 19 CFR 351.224(b), within five days after the date of any public announcement of the final determination or, if there is no public announcement, within five days after the date of publication of this notice in the Federal Register, we intend to disclose to parties to this proceeding the calculations performed in this final determination.

Continuation of Suspension of Liquidation

In accordance with section 735(c)(1)(B) of the Act, Commerce will instruct U.S. Customs and Border Protection (CBP) to continue to suspend liquidation of all appropriate entries of seamless pipe from Ukraine, as described in Appendix I of this notice, which were entered, or withdrawn from warehouse, for consumption on or after February 10, 2021, the date of publication in the Federal Register of the affirmative Preliminary Determination.

Pursuant to section 735(c)(1)(B)(ii) of the Act and 19 CFR 351.210(d), we will instruct CBP to require a cash deposit for such entries of merchandise equal to the following: (1) The cash deposit rate for the respondent listed in the table above will be equal to the respondent-specific estimated dumping margin listed for the respondent in the table; (2) if the exporter is not identified in the table above but the producer is, then the cash deposit rate will be equal to the respondent-specific estimated dumping margin established for that producer of the subject merchandise; and (3) the cash deposit rate for all other producers and exporters will be equal to the all-others estimated dumping margin listed in the table above. These suspension-of-liquidation instructions will remain in effect until further notice.

International Trade Commission Notification

In accordance with section 735(d) of the Act, we will notify the International Trade Commission (ITC) of this final affirmative determination of sales at LTFV. Because Commerce's final determination is affirmative, in accordance with section 735(b)(2) of the Act, the ITC will make its final determination as to whether the domestic industry in the United States is materially injured, or threatened with material injury, by reason of imports or sales (or the likelihood of sales) of seamless pipe no later than 45 days after this final determination. If the ITC determines that such injury does not exist, this proceeding will be terminated, all cash deposits posted will be refunded, and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed above in the “Continuation of Suspension of Liquidation” section.

Notification Regarding Administrative Protective Orders

This notice will serve as a final reminder to the parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

Notification to Interested Parties

This determination and this notice are issued and published pursuant to sections 735(d) and 777(i)(1) of the Act and 19 CFR 351.210(c).

Dated: June 25, 2021.
James Maeder,
Deputy Assistant Secretary for Antidumping and Countervailing Duty Operations.

Appendix I—Scope of the Investigation

The merchandise covered by the scope of this investigation is seamless carbon and alloy steel (other than stainless steel) pipes and redraw hollows, less than or equal to 16 inches (406.4 mm) in nominal outside diameter, regardless of wall-thickness, manufacturing process (e.g., hot finished or cold-drawn), end finish (e.g., plain end, beveled end, upset end, threaded, or threaded and coupled), or surface finish (e.g., bare, lacquered or coated). Redraw hollows are any unfinished carbon or alloy steel (other than stainless steel) pipe or “hollow profiles” suitable for cold finishing operations, such as cold drawing, to meet the American Society for Testing and Materials (ASTM) or American Petroleum Institute (API) specifications referenced below, or comparable specifications. Specifically included within the scope are seamless carbon and alloy steel (other than stainless steel) standard, line, and pressure pipes produced to the ASTM A-53, ASTM A-106, ASTM A-333, ASTM A-334, ASTM A-589, ASTM A-795, ASTM A-1024, and the API 51 specifications, or comparable specifications, and meeting the physical parameters described above, regardless of application, with the exception of the exclusions discussed below.

Specifically excluded from the scope of the investigation are: (1) All pipes meeting aerospace, hydraulic, and bearing tubing specifications, including pipe produced to the ASTM A-822 standard; (2) all pipes meeting the chemical requirements of ASTM A-335, whether finished or unfinished; and (3) unattached couplings. Also excluded from the scope of the investigation are (1) all mechanical, boiler, condenser and heat exchange tubing, except when such products conform to the dimensional requirements, i.e., outside diameter and wall thickness, of ASTM A53, ASTM A-106 or API 51 specifications. Also excluded from the scope of the investigation are: (1) Oil country tubular goods consisting of drill pipe, casing, tubing and coupling stock; (2) all pipes meeting the chemical requirements of ASTM A-335 regardless of their conformity to the dimensional requirements of ASTM A-53, ASTM A-106 or API 5L; and (3) the exclusion for ASTM A335 applies to pipes meeting the comparable specifications GOST 550-75.

Subject seamless standard, line, and pressure pipe are normally entered under Harmonized Tariff Schedule of the United States (HTSUS) subheadings 7304.19.1020, 7304.19.1030, 7304.19.1045, 7304.19.1060, 7304.19.5020, 7304.19.5050, 7304.31.6050, 7304.39.0016, 7304.39.0020, 7304.39.0024, 7304.39.0028, 7304.39.0032, 7304.39.0036, 7304.39.0040, 7304.39.0044, 7304.39.0048, 7304.39.0052, 7304.39.0056, 7304.39.0062, 7304.39.0068, 7304.39.0072, 7304.51.5005, 7304.51.5060, 7304.59.6000, 7304.59.8010, 7304.59.8015, 7304.59.8020, 7304.59.8025, 7304.59.8030, 7304.59.8035, 7304.59.8040, 7304.59.8045, 7304.59.8050, 7304.59.8055, 7304.59.8060, 7304.59.8065, and 7304.59.8070. The HTSUS subheadings and specifications are provided for convenience and customs purposes; the written description of the scope is dispositive.

Appendix II—List of Sections in the Issues and Decision Memorandum

I. Summary

II. Background

III. Period of Investigation

IV. Changes Since the Preliminary Determination

V. Discussion of the Issues

Comment 1: Whether to Accept a Minor Correction

Comment 2: Whether to Grant a Constructed Export Price Offset

Comment 3: Whether to Deduct Section 232 Duties from U.S. Prices

Comment 4: Whether to Offset G&A Expenses By Certain Other Net Sales Revenue

Comment 5: Whether to Adjust Niko Tube and NTRP's Depreciation Expenses

VI. Recommendation

[FR Doc. 2021-14137 Filed 7-1-21; 8:45 am]

BILLING CODE 3510-DS-P